DEPARTMENT OF TRANSPORTATION

Surface Transportation Board

[STB Finance Docket No. 34445]

Lehigh Valley Rail Management, LLC-Acquisition and Operation Exemption-Rail Lines in Pennsylvania

Lehigh Valley Rail Management, LLC (LVRM), a noncarrier, has filed a verified notice of exemption under 49 CFR 1150.31 to acquire and operate approximately 170.079 miles of rail line owned by ISG Railways, Inc. (ISGR).¹ LVRM will acquire and operate the following rail lines: (1) An approximately 132-mile line in Northampton County, PA, formerly operated by Keystone Railroad, LLC, comprised of yard and switching tracks, with no assigned mileposts; (2) an approximately 32-mile line in Cambria County, PA, formerly operated by Conemaugh & Black Lick Railroad, LLC, comprised of yard and switching tracks, with no assigned mileposts; and (3)(a) an approximately 4.5-mile line extending between approximately milepost 6.4 at Edensburg Junction and approximately milepost 10.45189, and (b) an approximately 1.579-mile connecting segment between milepost 15.355 (RJCP milepost 10.45189) and approximately milepost 16.934, in Cambria County, formerly operated by Cambria and Indiana Railroad, Inc.

¹ In May 2003, ISGR acquired the rail lines and substantially all other assets of the Bethlehem Steel Corporation subsidiary railroads. See ISG Railways, Inc.—Acquisition of Control Exemption—Assets of Keystone Railroad LLC d/b/a Philadelphia, Bethlehem and New England Railroad Company, Conemaugh & Black Lick Railroad Company LLC, Steelton & Highspire Railroad Company LLC, Lake Michigan & Indiana Railroad Company LLC, Brandywine Valley Railroad Company LLC, Upper Merion & Plymouth Railroad Company LLC, Patapsco & Back Rivers Railroad Company LLC, and Cambria and Indiana Railroad, Inc., STB Finance Docket No. 34344 (STB served May 22, 2003). In this proceeding, ISGR has agreed to transfer to LVRM three of the subsidiary railroads along with related assets.

LVRM certifies that its projected revenues as a result of this transaction will not exceed those that would qualify it as a Class III rail carrier and that such revenues will not exceed $5 million annually.

Consummation of the transaction was scheduled to take place on or after December 17, 2003, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34445, must be filed with the Surface Transportation Board, 1925 K Street, NW., Washington, DC 20423-0001. In addition, a copy of each pleading must be served on Eric M. Hocky, Four Penn Center, Suite 200, 1600 John F. Kennedy Blvd., Philadelphia, PA 19103-2808.

Board decisions and notices are available on our Web site at http://www.stb.dot.gov.”

Decided: December 22, 2003.
By the Board, David M. Konschnik, Director, Office of Proceedings.
Vernon A. Williams,
Secretary.

[FR Doc. 03-31959 Filed 12-30-03; 8:45 am]

BILLING CODE 4915-00-P